COMMITTEE FOR THE IMPLEMENTATION OF TEXTILE AGREEMENTS

Limitation of Duty-Free Imports of Apparel Articles Assembled in Haiti Under the Caribbean Basin Economic Recovery Act

AGENCY: The Committee for the Implementation of Textile Agreements.

ACTION: Notification of annual quantitative limit on imports of certain apparel from Haiti.

SUMMARY: The Caribbean Basin Economic Recovery Act, as amended, provides duty-free treatment for certain apparel articles imported directly from Haiti. One of the preferences is known as the “value-added” provision, which provides preferential tariff treatment for apparel that meets a minimum threshold percentage of value added in Haiti, certain other beneficiary and free trade agreement countries, and/or the United States. The provision is subject to a quantitative limitation, which is a percentage of total apparel imports into the United States for the previous 12-month period for which data are available. For the period from February 3, 2026 through December 19, 2026, the quantity of imports eligible for preferential treatment under the value-added provision is 267,063,493 square meters equivalent. This quantitative limitation was calculated by prorating imports on a monthly basis to account for the lapse in authorization for this treatment from December 20, 2025 to February 2, 2026.

DATES: The new limitation applies to imports entered on or after February 3, 2026.

FOR FURTHER INFORMATION CONTACT: Kayla Johnson, International Trade Specialist, Office of Textiles and Apparel, U.S. Department of Commerce, (202) 482-2532.

SUPPLEMENTARY INFORMATION:

Background: Section 213A(b)(1)(B) of CBERA, as amended (19 U.S.C. 2703a(b)(1)(B)), outlines the requirements for certain apparel articles imported directly from Haiti to qualify for duty-free treatment under a “value-added” provision. In order to qualify for duty-free treatment under this provision, apparel articles must be wholly assembled, or knit-to-shape, in Haiti from any combination of fabrics, fabric components, components knit-to-shape, and yarns, as long as the sum of the cost or value of materials produced in Haiti, one or more other beneficiary countries or parties to a free trade agreement with the United States, the United States, or any combination thereof, plus the direct costs of processing operations performed in Haiti or one or more beneficiary countries, or any combination thereof, is not less than an applicable percentage of the declared customs value of such apparel articles. Pursuant to CBERA, as amended, the applicable percentage for the period February 3, 2026 through December 19, 2026, is 60 percent. Proclamation 8114 provides that preferential treatment is limited to amounts published in the Federal Register by the Committee for the Implementation of Textile Agreements.

Duty-free treatment under the value-added provision is subject to a quantitative limitation. CBERA, as amended, provides that the quantitative limitation will be recalculated for each period after the initial applicable 1-year period. Section 213A(b)(1)(C) of CBERA, as amended (19 U.S.C. 2703a(b)(1)(C)), requires that, for the period beginning on February 3, 2026, the quantitative limitation for qualifying apparel imported from Haiti under the value-added provision will be not more than 1.25 percent of the aggregate square meter equivalent of all apparel articles imported into the United States in the most recent 12-month period for which data are available. For the period beginning on February 3, 2026 and ending on December 19, 2026, CITA calculated the quantitative limitation by prorating imports on a monthly basis to account for the lapse in authorization of this treatment from December 20, 2025 to February 2, 2026. Per Section 5020(c) of the Consolidated Appropriations Act, 2026, qualifying apparel imported during the lapse in authorization (from December 20, 2025 to February 2, 2026) is eligible for such preferential treatment upon an appropriate request for liquidation or reliquidation to United States Customs and Border Protection. The aggregate square meters equivalent of all apparel articles imported into the United States is derived from the set of Harmonized System lines listed in the Annex to the World Trade Organization Agreement on Textiles and Clothing (“ATC”), and the conversion factors for units of measure into square meter equivalents used by the United States in implementing the ATC. For purposes of this notice, the most recent 12-month period for which data are available is the 12-month period ending on November 30, 2025.

Therefore, for the period beginning on February 3, 2026 and extending through December 19, 2026, the quantity of imports eligible for preferential treatment under the value-added provision is 267,063,493 square meters equivalent. Apparel articles entered in excess of these quantities will be subject to otherwise applicable tariffs.

Authority: Section 213A of the Caribbean Basin Economic Recovery Act (19 U.S.C. 2703a) (CBERA), Presidential Proc. No. 8114, 72 FR 13655 (March 22, 2007), and No. 8596, 75 FR 68153 (November 4, 2010).

Joshua Kroon,
Chairman, Committee for the Implementation of Textile Agreements.

[FR Doc. 2026-02832 Filed 2-11-26; 8:45 am]

BILLING CODE P